COMMITTEE FOR PURCHASE FROM PEOPLE WHO ARE BLIND OR SEVERELY DISABLED

Procurement List Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes products and services previously furnished by such agencies.

COMMENTS MUST BE RECEIVED ON OR BEFORE: 12/25/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s);

5180-00-NIB-0025—Kit, Refrigeration Tools, Individual

5180-00-NIB-0026—Kit, Refrigeration Tools, Base

Mandatory for: U.S. Army, Warren, MI

Mandatory Source(s) of Supply: Wiscraft, Inc., Milwaukee, WI

Contracting Activity: U.S.Army—TACOM LCMC ILSC—SKOT Group

Distribution: C-List

NSN(s)—Product Name(s):

7520-00-NIB-2353 File Folder, Expandable, 3 Ring Binder, Hook and Loop, Clear, 11½″ x 9″

7520-00-NIB-2354 File Folder, Expandable, Hook and Loop, Clear, 9¾″ x 11⅝″

7520-00-NIB-2393 Project Jacket, Poly, Translucent Assorted Colors, 11¾″ x 9¼″

7520-00-NIB-2397 Project Jacket, Poly, Slash Cut, 3-Hole Punch, Translucent Assorted Colors, 11¼″ x 9¼″

7520-00-NIB-2398 Project Jacket, Poly, Slash Cut, 3-Hole Punch, Clear, 11¼″ x 9¼″

7520-00-NIB-2399 Project Jacket, Poly, Assorted Colors with Clear Front, 11¾″ x 9¼″

7520-00-NIB-2400 Booklet Envelope, Poly, String and Button, Side Loading, Clear, 11⅝″ x 9¾″

7520-00-NIB-2401 Booklet Envelope, Poly, String and Button, Side Loading, Blue, 11⅝″ x 9¾″

7520-00-NIB-2402 Booklet Envelope, Poly, String and Button, Side Loading, Green, 11⅝″ x 9¾″

7520-00-NIB-2403 Booklet Envelope, Poly, String and Button, Side Loading, Red, 11⅝″ x 9¾″

7520-00-NIB-2404 Booklet Envelope, Poly, String and Button, Top Loading, Clear, 11⅝″ x 9¾″

7520-00-NIB-2409 Envelope, Poly, Hook and Loop, Side Loading, Translucent Assorted Colors, 11⅝″ x 9 3/4″

7520-00-NIB-2410 Envelope, Poly, Hook and Loop, Top Loading, Clear, 11⅝″ x 9¾″

Mandatory for: Total Government Requirement

Mandatory Source(s) of Supply: Association for Vision Rehabilitation and Employment, Inc., Binghamton, NY

Contracting Activity: General Services Administration, New York, NY

Distribution: A-List

Services

Service Type: Administrative Support Service

Mandatory for: Federal Aviation Administration, Regional Offices (Except Burlington, MA), Fort Worth, TX, 10101 Hillwood Parkway, Fort Worth, TX

Mandatory Source(s) of Supply: ServiceSource, Inc., Oakton, VA, 15000 Aviation Blvd., Lawndale, CA

Mandatory Source(s) of Supply: Goodwill Industries of Southern California, Panarama City, CA, 901 Locust Street, Kansas City, MO

Mandatory Source(s) of Supply: JobOne, Independence, MO, 2300 East Devon Avenue, Des Plaines, IL

Mandatory Source(s) of Supply: Jewish Vocational Service and Employment Center, Chicago, IL

Contracting Activity: Dept of Transportation, Federal Aviation Administration

Deletions

The following products and services are proposed for deletion from the Procurement List:

Products

NSN(s)—Product Name(s): Combat Identification Panel (CIP) Kits and Components

2320-01-484-7838

2590-01-540-1552

2590-01-539-4003

2320-00-NSH-0003

2320-01-398-5161

2350-01-398-5164

2350-01-398-5165

2350-01-398-5166

2350-01-398-5167

2350-01-398-5169

2350-01-398-5172

2350-01-398-5175

2350-01-398-5176

2350-01-398-5177

2350-01-398-5179

2320-01-398-7187

2320-01-398-7189

2320-01-398-7191

2320-01-398-7192

2320-01-398-7193

2320-01-398-7194

2320-01-398-7195

2320-01-398-7196

2350-01-398-7198

2320-01-406-0481

2320-01-411-2566

2320-01-411-4390

2320-01-411-4391

2320-01-411-4393

2320-01-483-9051

2320-01-484-7833

2320-01-484-7836

2320-01-484-8700

2320-01-501-9531

2350-01-392-1565

2350-01-394-2530

2350-01-394-7838

2590-01-421-7060

2350-01-421-7067

2590-01-392-0285

2590-01-392-0286

2590-01-392-0287

2590-01-392-6898

2590-01-394-5635

2590-01-394-5638

2590-01-394-7635

2590-01-394-7636

2590-01-398-3172

2590-01-398-3836

2590-01-398-3838

2590-01-398-3839

2590-01-398-3841

2590-01-398-3843

2590-01-398-3844

2590-01-398-3846

2590-01-398-6291

2590-01-398-6718

2590-01-398-6723

2590-01-398-6724

2590-01-398-6729

2590-01-398-6730

2590-01-398-6731

2590-01-398-6732

2590-01-398-6733

2590-01-398-6734

2590-01-398-6735

2590-01-398-6736

2590-01-398-6737

2590-01-398-6738

2590-01-398-6741

2590-01-398-6742

2590-01-398-6745

2590-01-398-6747

2590-01-398-6749

2590-01-398-8072

2590-01-398-8073

2590-01-398-8074

2590-01-398-8076

2590-01-398-8077

2590-01-398-8079

2590-01-398-8081

2590-01-398-8082

2590-01-398-8084

2590-01-398-8085

2590-01-398-8087

2590-01-398-8088

2590-01-398-8090

2590-01-399-1362

2590-01-399-1363

2590-01-399-1364

2590-01-399-1365

2590-01-399-2933

2590-01-399-2934

2590-01-399-5100

2590-01-399-5863

2590-01-399-5864

2590-01-399-5865

2590-01-399-5866

2590-01-399-5867

2590-01-399-7502

2590-01-400-0372

2350-01-400-1810

2590-01-411-3170

2590-01-411-3171

2590-01-411-3172

2590-01-411-3174

2590-01-420-2877

2590-01-420-2878

2590-01-420-5984

2590-01-484-8507

2590-01-501-9505

2590-01-501-9557

2590-01-501-XXXX

2590-01-507-XXXX

2320-01-398-7198

2350-01-398-5174

2350-01-399-6773

2350-01-598-5170

2590-01-394-2530

2590-01-398-5161

2590-01-398-5164

2590-01-398-5165

2590-01-398-5166

2590-01-398-5172

2590-01-398-7187

2590-01-398-7189

2590-01-398-7191

2590-01-398-7192

2590-01-398-7193

2590-01-398-7194

2590-01-398-7195

2590-01-398-7196

2590-01-398-8083

2590-01-399-6773

2590-01-406-0481

2590-01-411-2566

2590-01-411-4390

2590-01-411-4391

2590-01-411-4393

2590-01-421-7067

2590-00-NSH-0001

2590-00-NSH-0002

2590-00-NSH-0003

2590-00-NSH-0013

2590-01-420-2875

2320-01-472-5882

2590-01-472-5889

2530-01-547-3597

Mandatory Source(s) of Supply: Crossroads Rehabilitation Center, Inc., Indianapolis, IN

Contracting Activity: W4GG HQ US ARMY TACOM, Warren, MI

NSN(s)—Product Name(s): 4220-01-181-3154—Fishing Kit, Emergency

Mandatory Source(s) of Supply: Opportunity Resources, Inc., Missoula, MT

Contracting Activity: Defense Logistics Agency Troop Support

Services

Service Type: Mail Delivery Service

Mandatory for: 11 Army Secure Operating Systems: 22019 53rd Street, Building 22019, Fort Hood, TX

712 Army Secure Operating Systems: 22020 53rd Street, Building 22020, Fort Hood, TX

9 Army Secure Operating Systems & 3 WS: 90042 Clarke Road, Building 90042, Fort Hood, TX

Dormitory: Building 91220, Fort Hood, TX

III Corps Building: 1001 761st Tank Battalion Avenue, Fort Hood, TX

Mandatory Source(s) of Supply: Professional Contract Services, Inc., Austin, TX

Contracting Activity: DEPT OF THE AIR FORCE, FA4608 2 CONS LGC

Service Type: Secure Document Destruction Service

Mandatory for: Internal Revenue Service Offices at the following locations: 24 South Tennessee, Lakeland, FL 129 Hibiscus Boulevard, Melbourne, FL

Mandatory Source(s) of Supply: Brevard Achievement Center, Inc., Rockledge, FL

Mandatory for: 10 Spiral Drive, Florence, KY

Mandatory Source(s) of Supply: Employment Solutions, Inc., Lexington, KY

Contracting Activity: Dept of the Treasury/Internal Revenue Service, Washington, DC

Barry S. Lineback,
Director, Business Operations.

[FR Doc. 2016-28557 Filed 11-25-16; 8:45 am]

BILLING CODE 6353-01-P